DEPARTMENT OF ENERGY

Federal Energy Regulatory Commission

[Docket No. TX19-1-000]

Mountain Breeze Wind, LLC; Notice of Filing

Take notice that on November 27, 2019, Cedar Creek Wind Energy, LLC, Cedar Creek II, LLC, and Mountain Breeze Wind, LLC (collectively, the Parties), submitted a proposed Firm Transmission Service Agreement and Interconnection Agreement (the Agreements) among the Parties. These Agreements supersede those proposed by the Parties in earlier pleadings submitted between June 19, 2019 and July 26, 2019, in accordance with Ordering Paragraph (C) of the Federal Energy Regulatory Commission's Proposed Order Directing the Provision of Interconnection and Transmission Services issued March 21, 2109 in the above-referenced docket.¹

¹ Mountain Breeze Wind, LLC, 166 FERC ¶ 61,200 (2019).

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on December 18, 2019.

Dated: December 3, 2019.
Nathaniel J. Davis, Sr.,
Deputy Secretary.

[FR Doc. 2019-26517 Filed 12-9-19; 8:45 am]

BILLING CODE 6717-01-P